DEPARTMENT OF ENERGY

Federal Energy Regulatory Commission

[Docket No. AD15-5-000]

Available Transfer Capability Standards for Wholesale Electric Transmission Services; Supplemental Notice Providing for Post-Workshop Comments

As discussed in prior notices in this docket, Federal Energy Regulatory Commission (Commission) staff will convene a workshop to discuss the calculation of Available Transfer Capability (ATC) for wholesale electric transmission services.¹ Parties wishing to file comments following the April 21, 2015 workshop may do so on or before May 6, 2015.

¹Prior Notices were issued on December 30, 2014 and January 30, February 27 and March 31, 2015.

Dated: April 21, 2015.
Nathaniel J. Davis, Sr.,
Deputy Secretary.

[FR Doc. 2015-09662 Filed 4-24-15; 8:45 am]

BILLING CODE 6717-01-P